DEPARTMENT OF COMMERCE

National Institute of Standards and Technology

Combinatorial Approaches to Functional Materials Workshop

AGENCY: National Institute of Standards and Technology (NIST), Commerce.

ACTION: Notice of public meeting.

SUMMARY: In cooperation with the National Science Foundation (NSF) and the Office of Science and Technology Policy (OSTP), NIST announces the “Combinatorial Approaches to Functional Materials Workshop” on Monday, May 5, 2014 from 8 a.m. to 5 p.m. Pacific Time and Tuesday, May 6, 2014 from 8 a.m. to 12 p.m. Pacific Time in San Francisco, California hosted by the University of South Carolina and Applied Material Inc. The Workshop will bring together the community of combinatorial materials science practitioners from academia, industry, and government in efforts to advance the Materials Genome Initiative. The goal of this workshop is to identify challenges in the field, brainstorm ideas for breakthrough, and identify areas of cross-community collaboration.

DATES: The Workshop will meet on Monday, May 5, 2014, from 8 a.m. to 5 p.m. Pacific Time and Tuesday, May 6, 2014, from 8 a.m. to 12 p.m. Pacific Time. Registration is required and will open on March 14, 2014.

ADDRESSES: The Workshop will be held at The City Club of San Francisco, Stock Exchange Tower, 155 Sansome Street, San Francisco, California 94104, telephone number 415-362-2042. Please note admittance instructions under the SUPPLEMENTARY INFORMATION section of this notice.

FOR FURTHER INFORMATION CONTACT: Martin Green, Materials Measurement Science Division, NIST, 100 Bureau Drive, Mail Stop 8520, Gaithersburg, Maryland 20899-1060, telephone number 301-975-8496. Martin Green's email address is martin.green@nist.gov.

SUPPLEMENTARY INFORMATION:

Registration: Due to space limitations, pre-registration for the Workshop is required. Registration is on a first-come, first-served basis and will be capped at 100 participants. Registration will open on March 14, 2014. Individuals planning to attend the workshop should register online at http://www.activeevents.com/solutions/product/active-starcite.

Meeting Accommodations: Individuals requiring special accommodations to access this public workshop should contact Martin Green at 301-975-8496 or martin.green@nist.gov, at least ten business days prior to the Workshop so that appropriate arrangements can be made.

Dated: March 10, 2014.
Patrick Gallagher,
Under Secretary of Commerce for Standards and Technology and Director.

[FR Doc. 2014-05694 Filed 3-13-14; 8:45 am]

BILLING CODE 3510-13-P